DEPARTMENT OF COMMERCE

International Trade Administration

Meeting of the Manufacturing Council

AGENCY: International Trade Administration, U.S. Department of Commerce.

ACTION: Notice of an open meeting.

SUMMARY: The Manufacturing Council will hold its first meeting of the newly appointed members to discuss and identify the priority issues affecting the U.S. manufacturing industry. The meeting will be an organizational meeting to discuss priorities that will be addressed in future meetings. The Council was re-chartered on April 5, 2012, to advise the Secretary of Commerce on government programs and policies that affect U.S. manufacturing and provide a means of ensuring regular contact between the U.S. Government and the manufacturing sector.

DATES: April 30, 2013, 9:30 a.m.

ADDRESSES: Department of Commerce, 1401 Constitution Avenue NW., Room 4830, Washington, DC 20230. Because of building security, all non-government attendees must pre-register. This meeting will be physically accessible to people with disabilities. Seating is limited and will be on a first come, first served basis. Requests for sign language interpretation, other auxiliary aids, or pre-registration, should be submitted no later than April 23, 2013, to Elizabeth Emanuel, the Manufacturing Council, Room 4043, 1401 Constitution Avenue NW., Washington, DC 20230, telephone 202-482-4501, elizabeth.emanuel@trade.gov. Last minute requests will be accepted, but may be impossible to fill.

FOR FURTHER INFORMATION CONTACT: Elizabeth Emanuel, the Manufacturing Council, Room 4043, 1401 Constitution Avenue NW., Washington, DC 20230, telephone: 202-482-4501, email: elizabeth.emanuel@trade.gov.

SUPPLEMENTARY INFORMATION: No time will be available for oral comments from members of the public attending the meeting. Any member of the public may submit pertinent written comments concerning the Council's affairs at any time before and after the meeting. Comments may be submitted to Elizabeth Emanuel at the contact information indicated above. To be considered during the meeting, comments must be received no later than 5:00 p.m. Eastern Time on April 23, 2013, to ensure transmission to the Council prior to the meeting. Comments received after that date will be distributed to the members but may not be considered at the meeting.

Copies of Council meeting minutes will be available within 90 days of the meeting.

Dated: April 9, 2013.
Jennifer Pilat,
The Manufacturing Council.

[FR Doc. 2013-08668 Filed 4-10-13; 11:15 am]

BILLING CODE 3510-DR-P